DEPARTMENT OF THE INTERIOR

Bureau of Indian Affairs

Proclaiming Certain Lands as Reservation for the Match-e-be-nash-she-wish Band of Pottawatomi Indians of Michigan, aka, Gun Lake Tribe

AGENCY: Bureau of Indian Affairs, Interior.

ACTION: Notice of Reservation Proclamation.

SUMMARY: This notice informs the public that the Assistant Secretary—Indian Affairs proclaimed approximately 147 acres, more or less, as the Match-e-be-nash-she-wish Band of Pottawatomi Indian Reservation.

FOR FURTHER INFORMATION CONTACT: Ben Burshia, Bureau of Indian Affairs, Division of Real Estate Services, MS-4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be the Match-e-be-nash-she-wish Band of Pottawatomi Indian Reservation for the exclusive use of Indians on that reservation who are entitled to reside at the reservation by enrollment or tribal membership.

Match-e-be-nash-she-wish Band of Pottawatomi Reservation, Township of Wayland, County of Allegan, State of Michigan.

Parcel A: That part of the Northwest ¼ of section 19, Town 3 North, Range 11 West, Wayland Township, Allegan County, Michigan, described as: Beginning on a point on the East-West ¼ line of said section, said point being on the Easterly line of Highway US-131 on ramp; thence North 17 degrees 29 minutes 59 seconds West 862.94 feet along said Easterly line; thence North 02 degrees 23 minutes 15 seconds West 1806.10 feet along the Easterly line of Highway US-131, said Easterly line being 125 feet Easterly of, measured at right angles to, and parallel with the survey line of said Highway US-131; thence North 87 degrees 07 minutes 54 seconds East 2470.95 feet along the North line of said section; thence South 03 degrees 27 minutes 58 seconds East 1448.14 feet along the Westerly right of way line of the Conrail Railroad (being 50.00 feet Westerly of, measured at right angles to, and parallel with the North-South ¼ line of said section) to a point which is North 03 degrees 27 minutes 58 seconds West 1186.00 feet from the East-West ¼ line of said section; thence South 86 degrees 57 minutes 24 seconds West 926.00 feet; thence South 03 degrees 27 minutes 58 seconds East 430.00 feet; thence South 86 degrees 57 minutes 24 seconds West 194.00 feet; thence South 03 degrees 27 minutes 58 seconds East 431.00 feet; thence North 86 degrees 57 minutes 24 seconds East 240.00 feet; thence South 03 degrees 27 minutes 58 seconds East 431.00 feet; thence North 86 degrees 57 minutes 24 seconds East 240.00 feet; thence South 03 degrees 27 minutes 58 seconds East 325.00 feet; thence South 03 degrees 27 minutes 58 seconds East 325.00 feet; thence South 86 degrees 57 minutes 24 seconds West 1415.62 feet along the East-West ¼ line of said Section to the point of beginning.

Parcel B: That part of the Northwest ¼ of section 19, Town 3 North, Range 11 West, Wayland Township, Allegan County, Michigan, described as: Commencing at the West ¼ corner of said section; thence North 86 degrees 57 minutes 24 seconds East 1897.60 feet along the East-West ¼ line to a point which is South 86 degrees 57 minutes 24 seconds West 930.00 feet from the center of section, said point also being the point of beginning of this description; thence continuing North 86 degrees 57 minutes 24 seconds East 682.00 feet along said ¼ line; thence North 03 degrees, 27 minutes 58 seconds West 330.00 feet parallel with the North-South ¼ line; thence North 86 degrees 57 minutes 24 seconds East 198.00 feet; thence North 03 degrees 27 minutes 58 seconds West 856.00 feet along the Westerly right of way line of the Conrail Railroad (being 50.00 feet Westerly of measured at right angles to and parallel with the North-South ¼ line of said section); thence South 86 degrees 57 minutes 24 seconds West 926.00 feet; thence South 03 degrees 27 minutes 58 seconds East 430.00 feet; thence South 86 degrees 57 minutes 24 seconds West 194.00 feet; thence South 03 degrees 27 minutes 58 seconds East 431.00 feet; thence North 86 degrees 57 minutes 24 seconds East 240.00 feet; thence South 03 degrees 27 minutes 58 seconds East 325.00 feet to the point of beginning.

The above-described lands contain a total of 147 acres, more or less, which are subject to all valid rights, reservations, rights-of-way, and easements of record.

This proclamation does not affect title to the land described above, nor does it affect any valid existing easements for public roads and highways, public utilities and for railroads and pipelines and any other rights-of-way or reservations of record.

Dated: August 10, 2009.
Larry Echo Hawk,
Assistant Secretary—Indian Affairs.

[FR Doc. E9-19751 Filed 8-17-09; 8:45 am]

BILLING CODE 4310-W7-P